DEPARTMENT OF COMMERCE

Foreign-Trade Zones Board

[Order No. 1539]

Approval for Expansion of Subzone 107A, Winnebago Industries, Inc. (Motor Home Vehicles), Charles City and Forest City, IA

Pursuant to its authority under the Foreign-Trade Zones Act of June 18, 1934, as amended (19 U.S.C. 81a-81u), the Foreign-Trade Zones Board (the Board) adopts the following Order:

Whereas, the Iowa Foreign-Trade Zone Corporation, grantee of FTZ 107, has requested authority on behalf of Winnebago Industries, Inc., to expand the subzone and the scope of manufacturing authority under zone procedures within Subzone 107A at the company's facilities in Charles City and Forest City, Iowa (FTZ Docket 26-2007, filed 7/23/07);

Whereas, notice inviting public comment has been given in the Federal Register (72 FR 41705, 7/31/07); and,

Whereas, the Board adopts the findings and recommendations of the examiner's report, and finds that the requirements of the FTZ Act and the Board's regulations are satisfied, and that approval of the application is in the public interest;

Now, therefore, the Board hereby approves the expansion of Subzone 107A as well as the scope of manufacturing authority under zone procedures within Subzone 107A at the Winnebago Industries, Inc., facilities located in Charles City and Forest City, Iowa, as described in the application and the Federal Register notice, subject to the FTZ Act and the Board's regulations, including Section 400.28.

Signed at Washington, DC, this 17th day of January 2008.
David M. Spooner, David M. Spooner
Assistant Secretary of Commerce For Import Administration, Alternate Chairman, Foreign-Trade Zones Board.

Attest:

Andrew McGilvray,

Executive Secretary.

[FR Doc. E8-1540 Filed 1-28-08; 8:45 am]

BILLING CODE 3510-DS-P